DEPARTMENT OF TRANSPORTATION

Federal Railroad Administration

[Docket Number FRA-2017-0118]

Petition for Waiver of Compliance

Under part 211 of Title 49 Code of Federal Regulations (CFR), this provides the public notice that on November 7, 2017, Denver's Regional Transportation District (RTDC) petitioned the Federal Railroad Administration (FRA) for a waiver of compliance from certain provisions of the Federal railroad safety regulations contained at 49 CFR 236. FRA assigned the petition Docket Number FRA-2017-0118.

In accordance with 49 CFR 236.588, RTDC is requesting approval to perform periodic testing of the Automatic Train Control system (ATC) at an interval of 92 days for the RTDC fleet of electric multiple unit equipment (EMUs), numbered RTDC 4001 through RTDC 4066. Currently RTDC is performing ATC periodic testing at an interval of 60 days as required by 49 CFR 236.588. In support of this request, RTDC states that the original equipment manufacturer (OEM) Siemens Rail Automation (formerly PHW, Inc.) has developed the maintenance and testing program for these vehicles based on a 92-day interval. RTDC has included relevant portions of this program with its petition. RTDC further states that to date, there have been no issues with the ATC system found during periodic testing that would be impacted by increasing the testing interval to 92 days. RTDC adds that granting the requested approval would not result in an additional costs and would allow RTDC to improve efficiency and resource allocation while complying with the OEM's maintenance requirements.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by March 30, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety, Chief Safety Officer.

[FR Doc. 2018-02867 Filed 2-12-18; 8:45 am]

BILLING CODE 4910-06-P